DEPARTMENT OF COMMERCE

Foreign-Trade Zones Board

Docket 35-2008

Foreign-Trade Zone 147 - Reading, Pennsylvania, Application for Reorganization and Expansion

An application has been submitted to the Foreign-Trade Zones Board (the Board) by the Foreign-Trade Zone Corporation of Southern Pennsylvania, grantee of Foreign-Trade Zone 147, requesting authority to expand and reorganize its zone in the Reading, Pennsylvania area, adjacent to the Harrisburg Customs and Border Protection port of entry. The application was submitted pursuant to the provisions of the Foreign-Trade Zones Act, as amended (19 U.S.C. 81a-81u), and the regulations of the Board (15 CFR Part 400). It was formally filed on May 27, 2008.

FTZ 147 was approved by the Board on June 28, 1988 (Board Order 378; 53 FR 26094, 7/11/88). The zone was subsequently expanded on February 25, 1997 (Board Order 871) and November 3, 2005 (Board Order 1417). FTZ 147 currently consists of 14 sites (4,794 acres) in south-central Pennsylvania.

The applicant is now requesting authority to reorganize and expand the general- purpose zone by deleting Site 4 Parcel A (595-acre Baker Refractories site) and Parcel C (37-acre Emons Bids Rail Yard property, York) and adding four new sites as follows: Proposed Site 16: (134 acres) located at 1200 South Antrim Way, Greencastle, Franklin County; Proposed Site 17: (256 acres) United Business Park, 7810 Olde Scotland Road, Shippensburg; Proposed Site 18: (208 acres) Key Logistics Park, Centerville Road, Newville; and, Proposed Site 19: (292 acres) I-81 Commerce Park, Walnut Bottom Road, Shippensburg, Cumberland County, Pennsylvania.

No specific manufacturing requests are being made at this time. Such requests would be made to the Board on a case-by-case basis.

In accordance with the Board's regulations, Claudia Hausler of the FTZ Staff is designated examiner to investigate the application and report to the Board.

Public comment is invited from interested parties. Submissions (original and 3 copies) shall be addressed to the Board's Executive Secretary at the address below. The closing period for their receipt is August 4, 2008. Rebuttal comments in response to material submitted during the foregoing period may be submitted during the subsequent 15-day period to August 18, 2008.

A copy of the application and accompanying exhibits will be available for public inspection at each of the following locations:

U.S. Export Assistance Center, 2 So. George Street, Cumberland House, Millersville, PA 17551-0302

Office of the Executive Secretary, Foreign-Trade Zones Board, U.S. Department of Commerce, Room 2111, 1401 Constitution Avenue NW, Washington, DC 20230

For further information contact Claudia Hausler at Claudia_Hausler@ita.doc.gov or (202)482-1379.

Dated: May 27, 2008.
Pierre V. Duy,
Acting Executive Secretary.

[FR Doc. E8-12458 Filed 6-3-08; 8:45 am]

BILLING CODE 3510-DS-S